Proclamation 8050 of September 14, 2006

Constitution Day and Citizenship Day, Constitution Week, 2006

By the President of the United States of America

A Proclamation

Americans are united by the principles embodied in the United States Constitution. On Constitution Day and Citizenship Day and during Constitution Week, we celebrate the establishment of the United States Constitution and honor the Framers of this groundbreaking document.

In 1787, the Framers of the Constitution met in Philadelphia and drafted a document that continues to be the foundation of our Nation's identity. The Constitution established the enduring governmental framework in which our free society has flourished for more than two centuries, and it is a testament to the wisdom and foresight of our Founders.

America is grateful to those who have worked to defend the Constitution and promote its ideals. During this observance, we also recognize the profound impact our Constitution has on the everyday lives of our citizens, and we call upon all Americans to help uphold its values of a free and just society.

In celebration of the signing of the Constitution and in recognition of the Americans who strive to uphold the duties and responsibilities of citizenship, the Congress, by joint resolution of February 29, 1952 (36 U.S.C. 106, as amended), designated September 17 as “Constitution Day and Citizenship Day,” and by joint resolution of August 2, 1956 (36 U.S.C. 108, as amended), requested that the President proclaim the week beginning September 17 and ending September 23 of each year as “Constitution Week.”

NOW, THEREFORE, I, GEORGE W. BUSH, President of the United States of America, do hereby proclaim September 17, 2006, as Constitution Day and Citizenship Day, and September 17 through September 23, 2006, as Constitution Week. I encourage Federal, State, and local officials, as well as leaders of civic, social, and educational organizations, to conduct ceremonies and programs that celebrate our Constitution and reaffirm our rights and responsibilities as citizens of our great Nation.

IN WITNESS WHEREOF, I have hereunto set my hand this fourteenth day of September, in the year of our Lord two thousand six, and of the Independence of the United States of America the two hundred and thirty-first.

[FR Doc. 06-7859

Filed 9-18-06; 8:45 am]

Billing code 3195-01-P